DEPARTMENT OF THE INTERIOR

National Park Service

[NPS-WASO-NAGPRA-NPS0034333; PPWOCRADN0-PCU00RP14.R50000]

Notice of Intent To Repatriate Cultural Items: Federal Bureau of Investigation, Art Theft Program, Washington, DC

AGENCY: National Park Service, Interior.

ACTION: Notice.

SUMMARY: The Federal Bureau of Investigation (FBI), in consultation with the appropriate Indian Tribes or Native Hawaiian organizations, has determined that the cultural items listed in this notice meet the definition of sacred objects. Lineal descendants or representatives of any Indian Tribe or Native Hawaiian organization not identified in this notice that wish to claim these cultural items should submit a written request to the FBI. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the FBI at the address in this notice by September 12, 2022.

FOR FURTHER INFORMATION CONTACT: Federal Bureau of Investigation, FBI Headquarters, Attn: Supervisory Special Agent (SSA) Randolph J. Deaton IV, Art Theft Program, 935 Pennsylvania Avenue NW, Washington, DC 20535, telephone (202) 324-5525, email artifacts@ic.fbi.gov.

SUPPLEMENTARY INFORMATION: Notice is here given in accordance with the Native American Graves Protection and Repatriation Act (NAGPRA), 25 U.S.C. 3005, of the intent to repatriate cultural items under the control of the Federal Bureau of Investigation, Washington, DC, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, three cultural items were acquired and transported to the east coast, where they remained part of a private collection of Native American antiquities, art, and cultural heritage. In the spring of 2018, these cultural items were seized by the FBI as part of a criminal investigation. The three cultural items seized in 2018 were identified by the collector as “masks.” Following consultation, these cultural items were determined to be culturally affiliated with the Hopi Tribe of Arizona and were identified as sacred objects.

The Hopi Tribe of Arizona resides in northeastern Arizona. Its reservation occupies portions of Coconino and Navajo Counties, encompasses more than 1.5 million acres, and contains 12 villages on First Mesa, Second Mesa, and Third Mesa. The Hopi Sinom and their ancestors, the Hisat Sinom, have ancient ties to their Hopi Tutskwa (Aboriginal Hopi Lands), which they have occupied continuously for over 2,000 years. According to Hopi oral tradition, since time immemorial, the Hopi people have lived in Hopi Tutskwa, maintaining their cultural traditions and their “sacred covenant with Maasaw, the ancient caretaker of the earth, to live as peaceful and humble farmers respectful of the land and its resources.” This oral traditional information is supported by the archeological record, which places the Hopi in this region for thousands of years. Old Orabi (Third Mesa), for example, is the oldest settlement with standing ruins. It is identified as “one of the oldest continuously inhabited settlements on the North American Continent dating back to A.D. 1100.”

Determinations Made by the Federal Bureau of Investigation

Officials of the Federal Bureau of Investigation have determined that:

• Pursuant to 25 U.S.C. 3001(3)(C), the three cultural items described above are specific ceremonial objects needed by traditional Native American religious leaders for the practice of traditional Native American religions by their present-day adherents.

• Pursuant to 25 U.S.C. 3001(2), there is a relationship of shared group identity that can be reasonably traced between the sacred objects and the Hopi Tribe of Arizona.

Additional Requestors and Disposition

Lineal descendants or representatives of any Indian Tribe or Native Hawaiian organization not identified in this notice that wish to claim these cultural items should submit a written request with information in support of the claim to Federal Bureau of Investigation, FBI Headquarters, Attn: Supervisory Special Agent (SSA) Randolph J. Deaton IV, Art Theft Program, 935 Pennsylvania Avenue NW, Washington, DC 20535, telephone (202) 324-5525, email artifacts@ic.fbi.gov, by September 12, 2022. After that date, if no additional claimants have come forward, transfer of control of the sacred objects to the Hopi Tribe of Arizona may proceed.

The Federal Bureau of Investigation is responsible for notifying the Hopi Tribe of Arizona that this notice has been published.

Dated: August 3, 2022.
Melanie O'Brien,
Manager, National NAGPRA Program.

[FR Doc. 2022-17293 Filed 8-10-22; 8:45 am]

BILLING CODE 4312-52-P